DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Region Gear Identification Requirements.

OMB Control Number: 0648-0353.

Form Number(s): NA.

Type of Request: Regular submission (extension of a current information collection).

Number of Respondents: 980.

Average Hours per Response: 15 minutes.

Burden Hours: 1,838.

Needs and Uses: This request is for extension of a current information collection.

Regulations at 50 CFR 679.24(a) require that all hook-and-line, longline pot, and pot-and-line marker buoys carried onboard or used by any vessel regulated under 50 CFR part 679 shall be marked with the vessel name and Federal fisheries permit number or Alaska Department of Fish and Game (ADF&G) vessel registration number. The regulations also specify the size and color of markings. The marking of gear aids law enforcement and enables other fishermen to report on misplaced gear.

Affected Public: Business or other for-profit organizations.

Frequency: Annually.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: October 28, 2013.
Gwellnar Banks,
Management Analyst, Office of the Chief Information Officer.

[FR Doc. 2013-26026 Filed 10-31-13; 8:45 am]

BILLING CODE 3510-22-P